NATIONAL SCIENCE FOUNDATION

Proposal Review Panel for Innovation and Technology Ecosystems; Notice of Meeting

In accordance with the Federal Advisory Committee Act (Pub. L. 92-463, as amended), the National Science Foundation (NSF) announces the following meeting:

Name and Committee Code: Proposal Review Panel for Innovation and Technology Ecosystems (#84685)—North Dakota State University Fargo Site Visit.

Date and Time: September 19, 2023; 3:00 p.m.-9:00 p.m.

September 20, 2023; 8:30 a.m.-7:45 p.m.

September 21, 2023; 8:00 a.m.-2:00 p.m.

Place: Jasper Hotel, 215 Broadway N, Fargo, ND 58102.

Tour Location: Hefty Seed Company,153rd Ave. SE, Wheatland, ND 58079.

Agronomy Seed Farm, 15449 37th St. SE, Casselton, ND 58102.

Type of Meeting: Part-Open.

Contact Person: Daniel Goetzel, Program Director, National Science Foundation, 2415 Eisenhower Avenue, Alexandria, Virginia 22314; Telephone (703) 292-5304.

Purpose of Meeting: NSF site visit to provide advice and recommendations concerning the progress and future activities of the projects that are one year into two-year awards.

Agenda

September 19, 2023

3:00 p.m.-4:15 p.m. Executive Sessions (Closed)

4:15 p.m.-7:00 p.m. Tour of Hefty Seed Company and Agronomy Seed Farm (Open)

7:00 p.m.-9:00 p.m. Executive Sessions (Closed)

September 20, 2023

8:30 a.m.-7:45 p.m. Executive Sessions (Closed)

September 21, 2023

8:00 a.m.-2:00 p.m. Executive Sessions (Closed)

Reason for Closing: Topics to be discussed and evaluated during closed portions of the site review will include information of a proprietary or confidential nature, including technical information; and information on personnel. These matters are exempt under 5 U.S.C. 552b(c), (4) and (6) of the Government in the Sunshine Act.

Dated: August 21, 2023.
Crystal Robinson,
Committee Management Officer.

[FR Doc. 2023-18277 Filed 8-24-23; 8:45 am]

BILLING CODE 7555-01-P